DEPARTMENT OF ENERGY

Federal Energy Regulatory Commission

Combined Notice of Filings #2

Take notice that the Commission received the following electric rate filings:

Docket Numbers: ER12-1739-000.

Applicants: Bethel Wind Energy LLC.

Description: Bethel Wind Energy LLC submits tariff filing per 35.12: Application for Market-Based Rate Authority to be effective 7/7/2012.

Filed Date: 05/08/2012.

Accession Number: 20120508-5077.

Comment Date: 5:00 p.m. Eastern Time on Tuesday, May 29, 2012.

Docket Numbers: ER12-1740-000.

Applicants: Rippey Wind Energy LLC.

Description: Rippey Wind Energy LLC submits tariff filing per 35.12: Application for Market-Based Rate Authority to be effective 7/7/2012.

Filed Date: 05/08/2012.

Accession Number: 20120508-5083.

Comment Date: 5:00 p.m. Eastern Time on Tuesday, May 29, 2012.

Docket Numbers: ER12-1741-000.

Applicants: Copper Mountain Solar 1, LLC.

Description: Copper Mountain Solar 1, LLC submits tariff filing per 35.13(a)(2)(iii) Copper Mountain Solar 1 LLC Joint Use Agreement to be effective 5/8/2012.

Filed Date: 05/08/2012.

Accession Number: 20120508-5087.

Comment Date: 5:00 p.m. Eastern Time on Tuesday, May 29, 2012.

Docket Numbers: ER12-1742-000.

Applicants: International Transmission Company.

Description: International Transmission Company submits tariff filing per 35.13(a)(2)(iii) Notice of Succession to be effective 7/10/2012.

Filed Date: 05/08/2012.

Accession Number: 20120508-5093.

Comment Date: 5:00 p.m. Eastern Time on Tuesday, May 29, 2012.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 8, 2012.
Nathaniel J. Davis, Sr.,
Deputy Secretary.

[FR Doc. 2012-11693 Filed 5-14-12; 8:45 am]

BILLING CODE 6717-01-P